DEPARTMENT OF DEFENSE

Department of the Air Force

Implementation of 2005 Base Closure and Realignment (BRAC) Decision To Realign the Army 7th Special Forces Group (Airborne) to Eglin Air Force Base, FL

ACTION: Record of Decision (ROD).

SUMMARY: On November 20, 2008, the United States Air Force signed the ROD for the Implementation of 2005 Base Closure and Realignment (BRAC) Decision to Realign the Army 7th Special Forces Group (Airborne) to Eglin Air Force Base, Florida. The ROD states the Air Force decision to implement Cantonment Alternative 3 West of Duke Field (Preferred Alternative) and Range Alternative 3 East and West Side (Preferred Alternative). The decision was based on matters discussed in the Final Environmental Impact Statement (FEIS), inputs from the public and regulatory agencies, and other relevant factors. On October 17, 2008 the FEIS Notice of Availability was published in the Federal Register (Volume 73, Number 202, Page 61859) with a wait period ending November 17, 2008. The ROD documents only the decision of the Air Force with respect to the proposed Air Force actions for the Army 7th Special Forces Group realignment analyzed in the FEIS.

FOR FURTHER INFORMATION CONTACT: Mr. Mike Spaits, Eglin AFB Public Affairs, 96 ABW/PA, Eglin AFB, FL 32542-5000 or call (850) 882-2878.

Bao-Anh Trinh,
Air Force Federal Register Liaison Officer.

[FR Doc. E8-28844 Filed 12-4-08; 8:45 am]

BILLING CODE 5001-05-P